DEPARTMENT OF THE INTERIOR

Fish and Wildlife Service

[FWS-R8-ES-2009-N199; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before October 26, 2009.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-221294

Applicant: Michael J. Galloway, San Diego, California.

The applicant requests a permit to take (survey by pursuit) the Quino checkerspot butterfly (Euphydryas editha quino) in conjunction with surveys throughout the range of the species in California for the purpose of enhancing its survival.

Permit No. TE-053598

Applicant: Nicole Shorey, San Diego, California.

The applicant requests an amendment to an existing permit (April 4, 2002, 67 FR 16114) to take (survey by pursuit) the Quino checkerspot butterfly (Euphydryas editha quino) in conjunction with surveys throughout the range of the species in California for the purpose of enhancing its survival.

Permit No. TE-227185

Applicant: Andrew B. Eastty, San Diego, California.

The applicant requests a permit to take (harass by survey and monitor nests) the southwestern willow flycatcher (Empidonax trailli extimus) and take (survey by pursuit) the Quino checkerspot butterfly (Euphydryas editha quino) in conjunction with surveys and population monitoring throughout the range of the species in California; Lincoln County, Nevada; Yuma, Pima, Santa Cruz, Cochise, La Paz and Maricopa Counties in Arizona; Hidalgo, Luna, Dona Ana, Otero, Eddy, Lea, Sierra, Socorro and Lincoln Counties, New Mexico; and El Paso, Hudspeth, Culberson, Jeff Davis, Presidio, and Brewster Counties in Texas for the purpose of enhancing their survival.

Permit No. TE-221295

Applicant: Angelica Mendoza, San Bernardino, California.

The applicant requests a permit to take (survey by pursuit) the Quino checkerspot butterfly (Euphydryas editha quino) in conjunction with surveys within the San Jacinto Ranger District of the San Bernardino National Forest, Riverside County, California for the purpose of enhancing its survival.

Permit No. TE-221411

Applicant: The Center for Natural Lands Management, Fallbrook, California.

The applicant requests a permit to take (harass by survey) the least Bell's vireo (Vireo bellii pusillus); take (harass by survey and monitor nests) the southwestern willow flycatcher (Empidonax trailli extimus); take (capture, handle, and release) the giant kangaroo rat (Dipodomys ingens), Tipton kangaroo rat (Dipodomys nitratoides nitratoides) and San Bernardino kangaroo rat (Dipodomys merriami parvus); take (survey by pursuit) the Quino checkerspot butterfly (Euphydryas editha quino); and take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys and or nest monitoring activities throughout the range of each species in California for the purpose of enhancing their survival.

Permit No. TE-095858

Applicant: Arianne B. Preite, Anaheim Hills, California.

The applicant requests an amendment to an existing permit (December 8, 2004, 69 FR 71070) to take (harass by survey) the light footed clapper rail (Rallus longirostris levipes) in conjunction with surveys throughout the range of the species in California for the purpose of enhancing its survival.

Permit No. TE-225938

Applicant: Frank R. Dittmer, San Diego, California.

The applicant requests a permit to take (survey by pursuit) the Quino checkerspot butterfly (Euphydryas editha quino) in conjunction with surveys throughout the range of the species in California for the purpose of enhancing its survival.

Permit No. TE-185595

Applicant: Kelly E. Buja, Sacramento, California.

The applicant requests an amendment to an existing permit (June 27, 2008, 73 FR 36552) to take (harass by survey, capture, handle, and release) the California tiger salamander (Ambystoma californiense) in conjunction with surveys and population monitoring throughout the range of the species in California for the purpose of enhancing its survival.

Permit No. TE-225970

Applicant: Charlotte M. Marks, Sacramento, California.

The applicant requests a permit to take (harass by survey, capture, handle, and release) the California tiger salamander (Ambystoma californiense) in conjunction with surveys and population monitoring throughout the range of the species in California for the purpose of enhancing its survival.

Permit No. TE-225974

Applicant: Midpeninsula Regional Open Space District, Los Altos, California.

The applicant requests a permit to take (survey, capture, handle, release, and conduct habitat enhancement activities) the San Francisco garter snake (Thamnophis sirtalis) in conjunction with population monitoring and habitat enhancement activities in San Mateo County, California, for the purpose of enhancing its survival.

Permit No. TE-073205

Applicant: Cristina P. Sandoval, Goleta, California.

The applicant requests an amendment to an existing permit, which we granted May 26, 2005, for a Federally threatened species. The original permit allowed the applicant to take (harass by survey, locate and monitor nests, erect nest exclosures, collect and incubate eggs that are abandoned and/or in danger of predation, captive-rear chicks, and release them into the wild) the western snowy plover (Charadrius alexandrinus nivosus) in conjunction with surveys and population monitoring activities at the Coal Point Reserve in Santa Barbara County, California, for the purpose of enhancing its survival. The applicant requests an amendment to take (survey, locate, population monitor, place decoys, and play taped vocalizations) the California least tern (Sterna antilluarum browni) in conjunction with surveys and population monitoring activities at the Coal Point Reserve in Santa Barbara County, California for the purpose of enhancing their survival.

Permit No. TE-117947

Applicant: Kevin B. Clark, San Diego, California.

The applicant requests an amendment to an existing permit (February 13, 2006, 71 FR 7563) to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-227263

Applicant: Emilie A. Strauss, San Rafael, California.

The applicant requests a permit to take (harass by survey) the California clapper rail (Rallus longirostris obsoletus) in conjunction with surveys and population monitoring studies throughout the range of the species in California, for the purpose of enhancing its survival.

Permit No. TE-795930

Applicant: Helm Biological Consulting, Lincoln, California.

The applicant requests an amendment to an existing permit (February 16, 1996, 61 FR 6253) to take (collect soil containing Federally listed fairy shrimp cysts, translocate, and inoculate cysts into restored vernal pools) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with vernal pool restoration and population enhancement activities throughout the range of each species in California for the purpose of enhancing their survival.

We invite public review and comment on each of these recovery permit applications. Comments and materials we receive will be available for public inspection, by appointment, during normal business hours at the address listed in the ADDRESSES section of this notice.

Dated: September 21, 2009.
Michael Long,
Acting Regional Director, Region 8, Sacramento, California.

[FR Doc. E9-23195 Filed 9-24-09; 8:45 am]

BILLING CODE 4310-55-P